DEPARTMENT OF ENERGY

Federal Energy Regulatory Commission

[Docket No. RP00-336-026]

El Paso Natural Gas Company; Notice of Compliance Filing

March 3, 2004.

Take notice that on February 13, 2004, El Paso Natural Gas Company (El Paso) tendered for filing as part of its FERC Gas Tariff, Second Revised Volume No. 1A, Eighth Revised Sheet No. 117, with an effective date of January 29, 2004:

El Paso states that this tariff sheet is revised to provide flexibility in the number of contracts for converted full requirements capacity that a shipper must hold. El Paso further states that the tariff sheet is filed in compliance with the Commission's January 29, 2004, order in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-486 Filed 3-8-04; 8:45 am]

BILLING CODE 6717-01-P